FEDERAL RETIREMENT THRIFT INVESTMENT BOARD

Sunshine Act Meeting

Time and Date: 9 a.m. (EDT) January 17, 2006.

Place: 4th Floor Conference Room, 1250 H Street, NW., Washington, DC.

Status: Parts will be open to the public and parts closed to the public.

Matters to be Considered

Parts Open to the Public

1. Approval of the minutes of the December 19, 2005, Board member meeting.

2. Thrift Savings Plan activity report by the Executive Director.

3. Ennis Knupp presentation.

4. Investment policy quarterly review.

5. Quarterly Vendor Financial Statement report.

6. Review of DOL audit report.

Employee Benefits Security Administration Review of the Thrift Savings Plan July 2004 Loan Program Changes, dated August 24, 2005, and Executive Director's response.

Parts Closed to the Public

7. Internal personnel matters.

Contact Person for More Information: Thomas J. Trabucco, Director, Office of External Affairs, (202) 942-1640.

Dated: January 6, 2006.
Elizabeth S. Woodruff,
Secretary to the Board, Federal Retirement Thrift Investment Board.

[FR Doc. 06-255 Filed 1-6-06; 4:49 pm]

BILLING CODE 6760-01-P